POSTAL SERVICE

39 CFR Part 20

International Product and Price Changes; Correction

AGENCY: Postal Service™.

ACTION: Final rule; correction.

SUMMARY: The Postal Service published in the Federal Register of February 25, 2009, a document concerning international product and price changes for implementation in May 2009. Inadvertently, Exhibit 293.452 included in that document, did not include all destination countries. This document corrects the table.

DATES: This correction is effective May 11, 2009. We will implement this international price change concurrent with our domestic Mailing Services price change on May 11, 2009.

FOR FURTHER INFORMATION CONTACT: Obataiye B. Akinwole at 703-292-5260 or Rick Klutts at 813-877-0372.

SUPPLEMENTARY INFORMATION: The Postal Service published a document in the Federal Register on February 25, 2009 (74 FR 8473), amending sub-section 293 of the International Mail Manual (IMM®). In FR Doc. 36-8473, published in the Federal Register of February 25, 2009 (74 FR 8473), sub-section 293.452 was inadvertently published without a complete list of ISAL destination countries. This amendment corrects Exhibit 293.452 published on February 25, 2009.

In rule FR Doc. 36-8473 published on February 25, 2009 (74 FR 8473), make the following correction. On pages 8485 and 8486, remove the current Exhibit 293.452 and insert the following exhibit.

Exhibit 293.452

ISAL Country Price Groups and Foreign Exchange Offices

International Surface Air Lift (ISAL) Service Network Countries and Price Groups
Country | City | 3-Letter exchange office code | Price group
Albania | Tirana | TIA | 12
Algeria | Algiers | ALG | 15
Angola | Luanda | LAD | 15
Argentina | Buenos Aires | BUE | 13
Aruba | Oranjestad | AUA | 13
Australia | Sydney | SYD | 9
Austria | Vienna | VIE | 11
Bahrain | Bahrain | BAH | 15
Bangladesh | Dhaka | DAC | 15
Belgium | Brussels | BRU | 11
Belize | Belize City | BZE | 13
Benin | Cotonou | COO | 15
Bolivia | La Paz | LPB | 13
Brazil | Rio de Janeiro | RIO | 13
Bulgaria | Sofia | SOF | 12
Burkina Faso | Ouagadougou | OUA | 15
Cameroon | Douala | DLA | 15
Canada | See 292.47 |  | 1
Central African Republic | Bangui | BGF | 15
Chile | Santiago | SCL | 13
China | Beijing | BJS | 14
Colombia | Bogota | BOG | 13
Congo, Democratic Republic of the | Kinshasa | FIH | 15
Costa Rica | San Jose | SJO | 13
Cote d'Ivoire (Ivory Coast) | Abidjan | ABJ | 15
Cuba | Havana | HAV | 13
Czech Republic | Prague | PRG | 12
Denmark | Copenhagen | CPH | 11
Dominican Republic | Santo Domingo | SDQ | 13
Ecuador | Guayaquil | GYE | 13
Egypt | Cairo | CAI | 15
El Salvador | San Salvador | SAL | 13
Ethiopia | Addis Ababa | ADD | 15
Fiji | Nadi | NAN | 14
Finland | Helsinki | HEL | 11
France | Paris | PAR | 5
French Guiana | Cayenne | CAY | 13
Gabon | Libreville | LBV | 15
Germany | Frankfurt | FRA | 4
Ghana | Accra | ACC | 15
Great Britain | London | LON | 3
Greece | Athens | ATH | 11
Guatemala | Guatemala City | GUA | 13
Guyana | Georgetown | GEO | 13
Haiti | Port-au-Prince | PAP | 13
Honduras | Tegucigalpa | TGU | 13
Hong Kong | Hong Kong | HKG | 14
Hungary | Budapest | BUD | 12
Iceland | Reykjavik | REK | 11
India | Mumbai | BOM | 15
Indonesia | Jakarta | JKT | 14
Iran | Tehran | THR | 15
Ireland | Dublin | DUB | 11
Israel | Tel Aviv | TLV | 11
Italy | Rome | ROM | 7
Jamaica | Kingston | KIN | 13
Japan ¹ | Osaka Int'l | OSA | 10
| Tokyo | TYO | 10
Jordan | Amman | AMM | 15
Kenya | Nairobi | NBO | 15
Korea, Rep. of (South) | Seoul | SEL | 14
Kuwait | Kuwait City | KWI | 15
Lebanon | Beirut | BEY | 15
Liechtenstein | Basel | BSL | 11
Luxembourg | Luxembourg | LUX | 11
Madagascar | Antananariva | TNR | 15
Malaysia | Kuala Lumpur | KUL | 14
Mali | Bamako | BKO | 15
Mauritania | Nouakchott | NKC | 15
Mauritius | Port Louis | MRU | 15
Mexico | Mexico City | MEX | 2
Morocco | Casablanca | CAS | 15
Mozambique | Maputo | MPM | 15
Netherlands | Amsterdam | AMS | 8
Netherlands Antilles | Curacao | CUR | 13
New Zealand | Auckland | AKL | 11
Nicaragua | Managua | MGA | 13
Niger | Niamey | NIM | 15
Nigeria | Lagos | LOS | 15
Norway | Oslo | OSL | 11
Oman | Muscat | MCT | 15
Pakistan | Karachi | KHI | 15
Panama | Panama City | PTY | 13
Papua New Guinea | Port Moresby | POM | 14
Paraguay | Asuncion | ASU | 13
Peru | Lima | LIM | 13
Philippines | Manila | MNL | 14
Poland | Warsaw | WAW | 12
Portugal | Lisbon | LIS | 11
Qatar | Doha | DOH | 15
Reunion Island | St. Denis | RUN | 15
Romania | Bucharest | BUH | 12
Russia | Moscow | MOW | 12
Saudi Arabia | Dhahran | DHA | 15
Senegal | Dakar | DKR | 15
Singapore | Singapore | SIN | 14
Slovak Republic (Slovakia) | Bratislava | BTS | 12
South Africa | Johannesburg | JNB | 15
Spain ² | Madrid | MAD | 11
Sri Lanka | Colombo | CMB | 15
Sudan | Khartoum | KRT | 15
Suriname | Paramaribo | PBM | 13
Sweden | Stockholm | STO | 11
Switzerland | Basel | BSL | 6
Syria | Damascus | DAM | 15
Taiwan | Taipei | TPE | 14
Tanzania | Dar es Salaam | DAR | 15
Thailand | Bangkok | BKK | 14
Togo | Lome | LFW | 15
Trinidad and Tobago | Port of Spain | POS | 13
Tunisia | Tunis | TUN | 15
Turkey | Istanbul | IST | 12
Uganda | Kampala | KLA | 15
United Arab Emirates | Dubai | DXB | 15
Uruguay | Montevideo | MVD | 13
Venezuela | Caracas | CCS | 13
Yemen | Sanaa | SAH | 15
Zambia | Ndola | NLA | 15
Zimbabwe | Harare | HRE | 15
¹ To expedite handling, Japan Post has requested that U.S. shippers make the following optional separation of their ISAL mail:
—Mail destined for locations in Japan with post code prefixes 52-93 should be labeled to Osaka International (OSA).
—Mail destined for all other post code prefixes should be labeled to Tokyo (TYO).
All ISAL mail that is not optionally separated as specified above should be labeled to Tokyo (TYO).
² Including the Canary Islands.

Neva R. Watson,
Attorney, Legislative.

[FR Doc. E9-6053 Filed 3-19-09; 8:45 am]

BILLING CODE 7710-12-P